DEPARTMENT OF COMMERCE

International Trade Administration

[A-570-053]

Certain Aluminum Foil From People's Republic of China: Preliminary Results of Antidumping Duty Administrative Review, Partial Rescission of Antidumping Duty Administrative Review, and Preliminary Determination of No Shipments; 2022-2023

AGENCY: Enforcement and Compliance, International Trade Administration, Department of Commerce.

SUMMARY: The U.S. Department of Commerce (Commerce) preliminarily determines that certain producers and/or exporters made sales of certain aluminum foil (aluminum foil) at less than normal value during the period of review (POR), April 1, 2022, through March 31, 2023. Additionally, Commerce is rescinding this administrative review with respect to certain companies. Interested parties are invited to comment on these preliminary results of this review.

DATES: Applicable May 2, 2024.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On June 12, 2023, in response to review requests from multiple parties, Commerce published the notice of initiation of an administrative review of the antidumping duty order on certain aluminum foil from the People's Republic of China (China),¹ covering 45 companies.² Between July 31 and September 11, 2023, all requests for review were timely withdrawn for certain companies.³ On December 8, 2023, we extended the deadline for these preliminary results of review until April 26, 2024.⁴

¹ See Certain Aluminum Foil from the People's Republic of China: Amended Final Determination of Sales at Less Than Fair Value and Antidumping Duty Order, 83 FR 17362 (April 19, 2018) (Order).

² See Initiation of Antidumping and Countervailing Duty Administrative Reviews, 88 FR 38021 (June 12, 2023); see also Initiation of Antidumping and Countervailing Duty Administrative Reviews, 88 FR 51271 (August 3, 2023) which includes a previously omitted company, “Manakin Industries, LLC,” as a respondent in this administrative review.

³ See Suzhou Xin Zhao Jin Aluminum Foil Co., Ltd.'s Letter, “Request to Withdraw from Administrative Review,” dated July 31, 2023; see also Glenroy Inc's Letter, “Request to Withdraw from Administrative Review,” dated July 31, 2023; Tekni-Plex, Inc. and Tri-Seal Opco, LLC (Tekni-Plex's) Letter, “Partial Withdrawal of Administrative Review Request,” dated August 16, 2023; Paxxus, Inc.'s Letter, “Partial Withdrawal of Administrative Review Request,” dated August 21, 2023; Sankyu-Thai Co., Ltd.'s Letter, “Withdrawal of Request for Administrative Review,” dated September 11, 2023; and Fres-co System USA, Inc.'s Letter, “Partial Withdrawal of Administrative Review Request,” dated September 11, 2023.

⁴ See Memorandum, “Extension of Deadline for Preliminary Results of Antidumping Duty Administrative Review,” dated December 8, 2023.

For a summary of the events that occurred since the initiation of this review and the analysis for these preliminary results, see the Preliminary Decision Memorandum.⁵ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included as Appendix I to this notice.

⁵ See Memorandum, “Decision Memorandum for the Preliminary Results of the 2022-2023 Administrative Review of the Antidumping Duty Order on Certain Aluminum Foil from the People's Republic of China,” dated concurrently with, and hereby adopted by, this notice (Preliminary Decision Memorandum).

Scope of the Order

The merchandise covered by the Order is certain aluminum foil from China. For a complete description of the scope of the Order, see the Preliminary Decision Memorandum.

Methodology

Commerce is conducting this administrative review in accordance with section 751(a)(1)(B) of the Tariff Act of 1930, as amended (the Act). In determining the dumping margins in this review, we calculated export prices in accordance with section 772 of the Act. Because Commerce has determined that China is a non-market economy country ⁶ within the meaning of section 771(18) of the Act, Commerce calculated normal value in accordance with section 773(c) of the Act. For a full description of the methodology underlying the preliminary results of this review, see the Preliminary Decision Memorandum.

⁶ See Antidumping Duty Investigation of Certain Aluminum Foil from the People's Republic of China: Affirmative Preliminary Determination of Sales at Less-Than-Fair Value and Postponement of Final Determination, 82 FR 50858, 50861 (November 2, 2017) (Foil from China Preliminary Determination), and accompanying Preliminary Decision Memorandum (PDM) (citing Memorandum, “China's Status as a Non-Market Economy,” dated October 26, 2017), unchanged in Certain Aluminum Foil from the People's Republic of China: Final Determination of Sales at Less Than Fair Value, 83 FR 9282 (March 5, 2018) (Foil from China Final Determination).

Partial Rescission of Administrative Review

Pursuant to 19 CFR 351.213(d)(1), Commerce will rescind an administrative review, in whole or in part, if all parties that requested a review withdraw their requests within 90 days of the publication date of the notice of initiation of the requested review. As noted above, the following companies timely withdrew their review requests and no other party requested an administrative review of these companies: Galex Inc.; Lotte Aluminium Co., Ltd.; Sama Aluminium Co Ltd.; Korea Aluminium Co., LTD.; Kataman Metals; Prosvic Sales Inc.; Sankyu-Thai Co., Ltd.; and Suzhou Xin Zhao Jin Aluminum Foil Co., Ltd. Therefore, we are rescinding this review with respect to these eight companies, in accordance with 19 CFR 351.213(d)(1).

Preliminary Determination of No Shipments

Based on the no-shipment certifications, our analysis of the results of the CBP data queries, and the fact that CBP identified no information that contradicted certain no-shipment claims, we preliminarily determine that Anhui Zhongji Battery Foil Science & Technology Co., Ltd. (Anhui Zhongji), Anhui Maximum Aluminum Industries Company Ltd. (Anhui Maximum), Manakin Industries, LLC (Manakin), and Xiamen Xiashun Aluminium Foil Co., Ltd. (Xiashun) did not have any shipments of subject merchandise to the United States during the POR. Consistent with Commerce's practice in non-market economy cases, we have not rescinded the review with respect to Anhui Zhongji, Anhui Maximum, Manakin, and Xiashun, but we will continue the review of these companies and issue instructions to CBP based on the final results of the review.⁷

⁷ See Non-Market Economy Antidumping Proceedings: Assessment of Antidumping Duties, 76 FR 65694 (October 24, 2011) (NME Practice); see also Appendix II.

Preliminary Affiliation and Single Entity Determination

Consistent with Commerce's treatment of Dingsheng Aluminium Industries (Hong Kong) Trading Co., Limited; Hangzhou Dingsheng Import & Export Co., Ltd.; Hangzhou Five Star Aluminium Co., Ltd.; Hangzhou Teemful Aluminium Co., Ltd.; Inner Mongolia Liansheng New Energy Material Co.; and Inner Mongolia Xinxing New Energy Material Co., Ltd. (collectively, Dingsheng) in a prior segment of this proceeding,⁸ we have continued to find that these companies are affiliated entities, pursuant to sections 771(33)(E), (F), and (G) of the Act, and that they should be treated as a single entity pursuant to 19 CFR 351.401 (f)(1)-(2). Consistent with Commerce's treatment of Jiangsu Zhongji Lamination Materials Co., Ltd., Jiangsu Zhongji Lamination Materials Stock Co., Ltd., Jiangsu Huafeng Aluminium Industry Co., Ltd., and Jiangsu Zhongji Lamination Materials Co., (HK) Limited, (collectively, Zhongji) in a prior segment of this proceeding,⁹ we have continued to find that these companies are affiliated entities, pursuant to sections 771(33)(E), (F), and (G) of the Act, and that they should be treated as a single entity pursuant to 19 CFR 351.401 (f)(1)-(2). For additional information, see the Preliminary Decision Memorandum.

⁸ See Foil from China Preliminary Determination PDM at 16-18, unchanged in Foil from China Final Determination. We find that record evidence supports continuing to treat these companies as a collapsed entity in this review. See Memorandum, “Dingsheng Analysis for the Preliminary Results,” dated concurrently with this notice.

⁹ In the less-than-fair-value investigation, we collapsed the following companies as a single entity: Jiangsu Zhongji Lamination Materials Co., (HK) Ltd.; Jiangsu Zhongji Lamination Materials Stock Co., Ltd.; Jiangsu Zhongji Lamination Materials Co., Ltd.; and Jiangsu Huafeng Aluminum Industry Co., Ltd. See Foil from China Preliminary Determination PDM at 16-18, unchanged in Foil from China Final Determination. We find that record evidence in this administrative review supports continuing to treat these companies as a single entity. See Memorandum, “Zhongji Analysis for the Preliminary Results,” dated concurrently with this notice.

Separate Rates

Commerce preliminarily determines that Dingsheng and Zhongji, the two companies individually examined in this review, demonstrated their eligibility for a separate rate.¹⁰ We also preliminarily determine that Dong-IL Aluminium Co., Ltd. (Dong-IL), Dongwon Systems Corp. (Dongwon), Eastern Valley Co., Ltd. (Eastern Valley), Granges Aluminum (Shanghai) Co., Ltd. (Granges Aluminum), Shanghai Shenyan Packaging Materials Co., Ltd. (Shanghai Shenyan), and Suzhou Manakin Aluminum Processing Technology Co., Ltd. (Suzhou Manakin Aluminum), Suzhou Manakin Trading Co., Ltd. (Suzhou Manakin Trading), companies not individually examined in this review, demonstrated their eligibility for a separate rate.¹¹

¹⁰ See Preliminary Decision Memorandum at the “Separate Rate Determinations” section for more details.

¹¹ On July 31, 2023, U.S. importer, Glenroy Inc withdrew its request for review of Galex Inc., Lotte Aluminium Co., Ltd., and Sama Aluminium Co Ltd.

The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually examined respondents, excluding dumping margins that are zero, de minimis, or based entirely on facts available.

For the preliminary results of this review, Commerce determined estimated dumping margins for Dingsheng and Zhongji to be 59.52, and 75.53 percent, respectively. For the reasons explained in the Preliminary Decision Memorandum, we are assigning the 67.53 percent rate to the seven non-examined respondents, Dong-IL, Dongwon, Eastern Valley, Granges Shanghai, Shanghai Shenyan, Suzhou Manakin Aluminum, and Suzhou Manakin Trading which qualify for a separate rate in this review, consistent with Commerce's practice and section 735(c)(5)(A) of the Act.¹²

¹² See Appendix II.

China-Wide Entity

In accordance with Commerce's policy, the China-wide entity will not be under review unless a party specifically requests, or Commerce self-initiates, a review of the China-wide entity.¹³ Because no party requested a review of the China-wide entity, the China-wide entity is not under review, and the weighted-average dumping margin for the China-wide entity (i.e., 105.80 percent) ¹⁴ is not subject to change. See the Preliminary Decision Memorandum for further discussion.

¹³ See Antidumping Proceedings: Announcement of Change in Department Practice for Respondent Selection in Antidumping Duty Proceedings and Conditional Review of the Nonmarket Economy Entity in NME Antidumping Duty Proceedings, 78 FR 65963 (November 4, 2013).

¹⁴ See Order.

Aside from the companies for which we preliminarily find no shipments and the company for which the review is being rescinded, Commerce considers the 16 companies for which a review was requested and did not demonstrate separate rate eligibility to be part of the China-wide entity. Consequently, we have assigned these 16 companies to the China-wide entity and they will be subject to the China-wide entity rate.¹⁵ For a listing of these companies, see Appendix II of this notice.

¹⁵ See Initiation Notice (“All firms listed below that wish to qualify for separate rate status in the administrative reviews involving NME countries must complete, as appropriate, either a separate rate application or certification, as described below.”); see also Appendix II for the list of companies that are subject to this administrative review that are considered to be part of the China-wide entity.

Preliminary Results of Review

Commerce preliminarily determines that the following estimated weighted-average dumping margins exist for the period April 1, 2022, through March 31, 2023:

Exporter | Weighted- average dumping margin (percent)
Dingsheng Aluminium Industries (Hong Kong) Trading Co., Limited (Dingsheng Aluminium Industries (Hong Kong) Trading Co., Ltd.)/Hangzhou Dingsheng Import & Export Co., Ltd. (Hangzhou Dingsheng Import and Export Co., Ltd.)/Hangzhou Five Star Aluminium Co., Ltd./Hangzhou Teemful Aluminium Co., Ltd./Inner Mongolia Liansheng New Energy Material Co./Inner Mongolia Xinxing New Energy Material Co., Ltd | 59.52
Jiangsu Zhongji Lamination Materials Co., (HK) Limited/Jiangsu Zhongji Lamination Materials Stock Co., Ltd./Jiangsu Huafeng Aluminium Industry Co., Ltd./Jiangsu Zhongji Lamination Materials Co., Ltd | 75.53
Dong-IL Aluminium Co., Ltd | 67.53
Dongwon Systems Corp | 67.53
Eastern Valley Co., Ltd | 67.53
Granges Aluminum (Shanghai) Co., Ltd | 67.53
Shanghai Shenyan Packaging Materials Co., Ltd | 67.53
Suzhou Manakin Aluminum Processing Technology Co., Ltd | 67.53
Suzhou Manakin Trading Co., Ltd | 67.53

Disclosure and Public Comment

Commerce intends to disclose its calculations and analysis performed to interested parties for these preliminary results within five days of any public announcement or, if there is no public announcement, within five days of the date of publication of this notice in accordance with 19 CFR 351.224(b).

Pursuant to 19 CFR 351.309(c), interested parties may submit case briefs to Commerce no later than 30 days after the date of publication of this notice.¹⁶ Rebuttal briefs, limited to issues raised in the case briefs, may be filed not later than five days after the date for filing case briefs.¹⁷ Interested parties who submit case briefs or rebuttal briefs in this proceeding must submit: (1) a table of contents listing each issue; and (2) a table of authorities.¹⁸

¹⁶ See 19 CFR 351.309(c); see also 19 CFR 351.303 (for general filing requirements).

¹⁷ See 19 CFR 351.309(d); see also Administrative Protective Order, Service, and Other Procedures in Antidumping and Countervailing Duty Proceedings, 88 FR 67069, 67077 (September 29, 2023) (APO and Service Procedures).

¹⁸ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁹ Further, we request that interested parties limit their public, executive summary of each issue to no more than 450 words, not including citations. We intend to use the public, executive summaries as the basis of the comment summaries included in the issues and decision memorandum that will accompany the final results in this administrative review. We request that interested parties include footnotes for relevant citations in the public, executive summary of each issue. Note that Commerce has amended certain of its requirements pertaining to the service of documents in 19 CFR 351.303(f).²⁰

¹⁹ We use the term “issue” here to describe an argument that Commerce would normally address in a comment of the Issues and Decision Memorandum.

²⁰ See APO and Service Procedures.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Unless otherwise extended, Commerce intends to issue the final results of this administrative review, which will include the results of its analysis of issues raised in any briefs, within 120 days of publication of these preliminary results of review in the Federal Register, pursuant to section 751(a)(3)(A) of the Act.

Assessment Rates

Upon issuance of the final results of this review, Commerce will determine, and CBP shall assess, antidumping duties on all appropriate entries covered by this review.²¹ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

²¹ See 19 CFR 351.212(b)(1).

For each individually examined respondent in this review whose weighted-average dumping margin in the final results of review is not zero or de minimis (i.e., less than 0.5 percent), Commerce intends to calculate importer/customer-specific assessment rates.²² Where the respondent reported reliable entered values, Commerce intends to calculate importer/customer-specific ad valorem assessment rates by aggregating the amount of dumping calculated for all U.S. sales to the importer/customer and dividing this amount by the total entered value of the merchandise sold to the importer/customer.²³ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²⁴ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²⁵

²² See 19 CFR 351.212(b)(1).

²³ Id.

²⁴ Id.

²⁵ See Antidumping Proceedings: Calculation of the Weighted-Average Dumping Margin and Assessment Rate in Certain Antidumping Duty Proceedings; Final Modification, 77 FR 8101 (February 14, 2012).

Pursuant to Commerce's refinement to its practice, for sales that were not reported in the U.S. sales database submitted by an exporter individually examined during this review, Commerce will instruct CBP to liquidate the entry of such merchandise at the dumping margin for the China-wide entity.²⁶ Additionally, where Commerce determines that an exporter under review had no shipments of subject merchandise to the United States during the POR, any suspended entries of subject merchandise that entered under that exporter's CBP case number during the POR will be liquidated at the dumping margin for the China-wide entity.

²⁶ See NME Practice, for a full discussion of this practice.

In accordance with section 751(a)(2)(C) of the Act, the final results of this review shall be the basis for the assessment of antidumping duties on entries of merchandise covered by the final results of this review and for future deposits of estimated antidumping duties, where applicable.

Cash Deposit Requirements

Commerce will instruct CBP to require a cash deposit for antidumping duties equal to the weighted-average amount by which the normal value exceeds U.S. price. The following cash deposit requirements will be effective for shipments of the subject merchandise from China entered, or withdrawn from warehouse, for consumption on or after the publication date of this notice in the Federal Register, as provided by section 751(a)(2)(C) of the Act: (1) for the

exporters listed in the table above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the table above but that have separate rates, the cash deposit rate will continue to be the exporter-specific rate established in the most recently completed segment of this proceeding; (3) for all Chinese exporters of subject merchandise which have not been found to be entitled to a separate rate, the cash deposit rate will be the rate for the China-wide entity (i.e., 105.80 percent); ²⁷ and (4) for all non-Chinese exporters of subject merchandise that have not received their own rate, the cash deposit rate will be the rate applicable to the China exporter that supplied that non-Chinese exporter. These cash deposit requirements, when imposed, shall remain in effect until further notice.

²⁷ See Order.

Notification to Importers

This notice also serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred, and the subsequent assessment of double antidumping duties, and/or an increase in the amount of antidumping duties by the amount of the countervailing duties.

Notification to Interested Parties

We are issuing and publishing these results in accordance with sections 751(a)(1) and 777(i)(1) of the Act, and 19 CFR 351.213 and 351.221(b)(4).

Dated: April 26, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Rescission of Review, In Part

V. Preliminary Determination of No Shipments

VI. Discussion of the Methodology

VII. Adjustment Under Section 777A of the Act

VIII. Currency Conversion

IX. Recommendation

Appendix II

Non-Selected Separate Rate Companies

1. Dong-IL Aluminium Co., Ltd.

2. Dongwon Systems Corp.

3. Eastern Valley Co., Ltd.

4. Granges Aluminum (Shanghai) Co., Ltd.

5. Shanghai Shenyan Packaging Materials Co., Ltd.

6. Suzhou Manakin Aluminum Processing Technology Co., Ltd.

7. Suzhou Manakin Trading Co., Ltd.

No Shipments

1. Anhui Maximum Aluminum Industries Company Ltd.

2. Anhui Zhongji Battery Foil Science & Technology Co., Ltd.

3. Manakin Industries, LLC

4. Xiamen Xiashun Aluminium Foil Co., Ltd.

Companies Determined To Be Part of the China-Wide Entity

1. Alcha International Holdings Limited

2. Aluminum Corporation of China Limited

3. Dingheng New Materials Co., Ltd.

4. Henan Mingtai Al. Industrial

5. Hunan Suntown Marketing Limited

6. Jiangsu Dingsheng New Materials Joint-Stock Co., Ltd.

7. SAM-A Aluminum Co., Ltd.

8. Shandong Nanshan Aluminum Co., Ltd.

9. Shanghai Huafon Aluminium Corporation

10. Shanghai Shenhuo Aluminium Foil Co., Ltd

11. Shanghai Sunho Aluminum Foil Co., Ltd.

12. SK Global America Inc.

13. Suntown Technology Group Corporation Limited (Suntown Technology Group Co., Ltd.)

14. Walson (HK) Trading Co., Limited

15. Yinbang Clad Materials Co., Ltd.

16. Zhejiang Yongjie Aluminum Co., Ltd.

[FR Doc. 2024-09589 Filed 5-1-24; 8:45 am]

BILLING CODE 3510-DS-P